SECURITIES AND EXCHANGE COMMISSION

[Rule 17a-4(b)(11), SEC File No. 270-449, OMB Control No. 3235-0506, Rule 17a-3(a)(16)]

Submission for OMB Review; Comment Request

Upon Written Request, Copies Available From: Securities and Exchange Commission, Office of Investor Education and Advocacy, Washington, DC 20549.

Extension:

Rule 17a-4(b)(11), SEC File No. 270-449, OMB Control No. 3235-0506, Rule 17a-3(a)(16).

Notice is hereby given that pursuant to the Paperwork Reduction Act of 1995 (44 U.S.C. Sec. 3501 et seq.), the Securities and Exchange Commission (“Commission”) has submitted to the Office of Management and Budget (“OMB”) a request for extension of the existing collection of information provided for in the following rule: Rule 17a-4(b)(11) (17 CFR Sec. 240.17a-4(b)(11)) under the Securities Exchange Act of 1934 (15 U.S.C. 78a et seq.).

Rule 17a-4(b)(11) (17 CFR Sec. 240.17a-4(b)(11)) under the Securities Exchange Act of 1934 (15 U.S.C. 78a et seq.) describes the record preservation requirements for those records required to be kept pursuant to Rule 17a-3(a)(16), including how such records should be kept and for how long, to be used in monitoring compliance with the Commission's financial responsibility program and antifraud and antimanipulative rules as well as other rules and regulations of the Commission and the self-regulatory organizations.

It is estimated that respondents will incur a total burden of 2835 hours per year (105 respondents multiplied by 27 burden hours to comply with Rule 17a-3(a)(16). It is estimated that approximately 105 active broker-dealer respondents registered with the Commission will incur a total burden of 315 hours per year to comply with Rule 17a-4(b)(11), (105 respondents multiplied by 3 burden hours per respondent equals 315 total burden hours).

The Commission estimates that an employee of a broker-dealer charged to ensure compliance with Rule 17a-3(a)(16) receives annual compensation of $238,000. This compensation is the equivalent of $119 per hour ($238,000 divided by 2,000 payroll hours per year). Thus, the average cost estimated for each respondent would be $3,213: Rule 17a-3(a)(16) Recordkeeping requirements 27 hours at $119/hr = $3,213.

The Commission estimates that an employee of a broker-dealer charged to ensure compliance with Rule 17a-4(b)(11) receives annual compensation of $238,000. This compensation is the equivalent of $119 per hour ($238,000 divided by 2,000 pay roll hours per year). Thus, the average cost estimated for each respondent would be $357.00: Rule 17a-4(b)(11) Record preservation requirements 3 hours at $119/hr = $357.

Accordingly, the annual aggregated hour burden for each broker-dealer required to comply with Rules 17a-3(a)(16) and 17a-4(b)(11) would be $3,570: ($3213 + $357 = $3570).

Under Rule 17a-4(a)(11) broker-dealers are required to retain records for a period of not less than three years. Compliance with the rule is mandatory. The required records are available only to the examination staff of the Commission and the self-regulatory organization of which the broker-dealer is a member.

An agency may not conduct or sponsor and a person is not required to respond to a collection of information unless it displays a currently valid control number. The public may view the information discussed in this notice at http://www.reginfo.gov.

Comments should be directed to: (i) Desk Officer for the Securities and Exchange Commission, Office of Information and Regulatory Affairs, Office of Management and Budget, Room 10102, New Executive Office Building, Washington, DC 20503, or by sending an e-mail to: Shagufta_Ahmed@omb.eop.gov; and (ii) Thomas Bayer, Chief Information Officer, Securities and Exchange Commission, c/o Remi Pavlik-Simon, 6432 General Green Way, Alexandria, VA 22312 or send an e-mail to: PRA_Mailbox@sec.gov. Comments must be submitted to OMB within 30 days of this notice.

Dated: January 10, 2010.
Elizabeth M. Murphy,
Secretary.

[FR Doc. 2011-674 Filed 1-12-11; 8:45 am]

BILLING CODE 8011-01-P